ENVIRONMENTAL PROTECTION AGENCY

[FRL-7135-6]

Proposed Administrative Settlement Under the Comprehensive Environmental Response, Compensation, and Liability Act

AGENCY: Environmental Protection Agency.

ACTION: Request for public comment.

SUMMARY: The Environmental Protection Agency (EPA) is proposing to enter into an Agreement for Recovery of Past Response Costs pursuant to Section 122(h)(1) of the Comprehensive Environmental Response, Compensation and Liability Act of 1980, as amended (CERCLA), 42 U.S.C. 9622(h)(1). This proposed settlement is intended to resolve the liability under CERCLA of St. Jude Polymer Corporation for past response costs incurred by the United States Environmental Protection Agency and the United States Department of Justice in connection with the Metropolitan Mirror and Glass, Inc. Superfund Site, located in Frackville, Schuylkill County, Pennsylvania.

DATES: Comments must be provided on or before March 1, 2002.

ADDRESS: Comments should be addressed to Suzanne Canning, Docket Clerk, U.S. Environmental Protection Agency, Region III, 1650 Arch Street, Philadelphia, PA 19103, and should refer to the Metropolitan Mirror and Glass Site, Frackville, Schuylkill County, Pennsylvania.

FOR FURTHER INFORMATION CONTACT: Joan A. Johnson (3RC41),215/814-2619, U.S. Environmental Protection Agency, 1650 Arch Street, Philadelphia, Pennsylvania 19103.

SUPPLEMENTARY INFORMATION: Notice of the past response costs settlement: In accordance with Section 122(h)(1) of CERCLA, 42 U.S.C. 122(h)(1), notice is hereby given of a proposed administrative settlement concerning the Metropolitan Mirror and Glass, Inc. Site in Frackville, Schuylkill County, Pennsylvania. The administrative settlement is subject to review by the public pursuant to this Notice. This agreement is also subject to the approval of the Attorney General, United States Department of Justice or his designee.

Pursuant to the proposed administrative settlement, St. Jude Polymer Corporation (St. Jude), the settling respondent, has agreed to pay $5,000 to the Hazardous Substances Trust Fund subject to the contingency that EPA may elect not to complete the settlement if comments received from the public during this comment period disclose facts or considerations which indicate the proposed settlement is inappropriate, improper, or inadequate. This amount to be paid by St. Jude will be applied towards past response costs incurred by EPA and the United States Department of Justice in connection with the Site.

EPA is entering into this agreement under the authority of Section 122(h) of CERCLA, 42 U.S.C. 9622(h). As part of this cost recovery settlement, EPA will grant St. Jude a covenant not to sue or take administrative action against St. Jude for reimbursement of past response costs pursuant to Section 107 of CERCLA, 42 U.S.C. 9607, with regard to the Site.

The Environmental Protection Agency will receive written comments relating to this settlement for thirty (30) days from the date of publication of this Notice. A copy of the proposed Agreement for Recovery of Past Response Costs can be obtained from Joan A. Johnson, U.S. Environmental Protection Agency, Region III, Office of Regional Counsel, 1650 Arch Street, Philadelphia, Pennsylvania, 19103 or by contacting Joan A. Johnson at (215) 814-2619.

Dated: January 17, 2002.
Thomas C. Voltaggio,
Acting Regional Administrator, U.S. Environmental Protection Agency, Region III.

[FR Doc. 02-2233 Filed 1-29-02; 8:45 am]

BILLING CODE 6560-50-P